DEPARTMENT OF ENERGY

Western Area Power Administration

Construction and Operation of the Proposed Wellton-Mohawk Generating Facility, Yuma County, AZ

AGENCY: Western Area Power Administration, DOE.

ACTION: Notice of Intent to Prepare an Environmental Impact Statement.

SUMMARY: The Western Area Power Administration (Western) intends to prepare an environmental impact statement (EIS) regarding the proposal by Dome Valley Energy Partners, LLC (Dome Valley) to construct and operate the Wellton-Mohawk Generating Facility (Facility) east of Yuma, Arizona. The EIS will also address the construction of a new natural gas pipeline and high-voltage transmission line upgrades and additions needed to support the Facility, a no-action alternative, and any action alternatives defined as a result of the EIS scoping process.

Because implementing this proposal would incorporate a major new generation resource into Western's system, Western has determined that an EIS is required. Western will hold a 30-day scoping period to ensure that interested members of the public and Federal, State, local, and tribal agencies have an opportunity to provide input on the scope and alternatives that will be addressed in the EIS. Western also will hold public open-house scoping meetings in the project area during the scoping period.

DATES: The public scoping meetings will be held on June 3, 2003, in Wellton, and June 4, 2003, in Yuma. Each meeting will be held between 6 p.m. and 9 p.m. Written comments on the scope of the EIS for the proposed Project should be received no later than 11:59 p.m. (Arizona Time) on June 30, 2003, which will be the end of the EIS scoping period. Comments on the project will be accepted throughout the National Environmental Policy Act (NEPA) process.

ADDRESSES: The Wellton scoping meeting will be held at the Wellton Elementary School, 29126 San Jose Avenue in Wellton. The Yuma scoping meeting will be held at the Yuma Civic and Convention Center, 1440 West Desert Hills Drive in Yuma. Each facility is handicapped accessible. Comments should be addressed to Mr. John Holt, Environment Manager, Desert Southwest Customer Service Region, Western Area Power Administration, P.O. Box 6457, Phoenix, AZ 85005, fax (602) 352-2630, e-mail holt@wapa.gov.

FOR FURTHER INFORMATION CONTACT: Mr. Mark Wieringa, NEPA Document Manager, Western Area Power Administration, P.O. Box 281213, Lakewood, CO 80228-8213, telephone (720) 962-7448, fax (720) 962-7263, e-mail wieringa@wapa.gov. For general information on the Department of Energy's NEPA review procedures or status of a NEPA review, contact Carol M. Borgstrom, Director of NEPA Policy and Compliance, EH-42, U.S. Department of Energy, 1000 Independence Avenue SW., Washington, DC 20585, telephone (202) 586-4600 or (800) 472-2756.

SUPPLEMENTARY INFORMATION: The Facility would be located adjacent to Western's existing Ligurta Substation, approximately 25 miles east of Yuma, Arizona, and nine miles west of Wellton, Arizona, just north of Interstate Highway 8. Dome Valley proposes to construct and operate a natural gas-fired combined-cycle electricity generating facility, an associated solar collection field, and ancillary facilities in unincorporated Yuma County, Arizona. The proposed Facility would be developed in two phases. The full output of the first phase would be nominally rated at 260 megawatts (MW) with about 310-MW peaking capacity. With the second phase, the Facility would be nominally rated at 520 MW with peaking capacity of about 620 MW via duct burners. Each phase would consist of one combustion turbine, one heat recovery steam generator, a steam turbine, condenser, transformer, cooling towers, tanks, sedimentation/evaporation ponds, auxiliary boilers, an emergency generator, an emergency fire pump, and associated buildings. Water for the Facility's use, including cooling, would be provided by the Wellton-Mohawk Irrigation and Drainage District (Wellton-Mohawk) via the Wellton-Mohawk Canal. Associated with the Facility would be a solar component that would convert solar energy to thermal energy for inlet air-cooling. Natural gas for the Facility would be delivered via a new natural gas pipeline that would interconnect to a proposed or existing natural gas transmission line near U.S. Highway 95, northwest of the Facility. The proposed natural gas transmission pipeline would be subject to an independent NEPA review as part of the Federal Energy Regulatory Commission licensing process. The Facility's new natural gas pipeline would parallel the existing Wellton-Mohawk Canal right-of-way for its full length of 12 miles.

The first phase of the Facility would interconnect at Western's Ligurta Substation. In response to Dome Valley's proposal, Western conducted a transmission system impact study and determined that upgrades and additions to the existing transmission system were needed to accommodate the Facility. Western's proposed actions would include upgrading the existing Ligurta Substation, upgrading Western's existing 12.7-mile Ligurta to Gila transmission line, adding 75 megavolt-ampere transformer capacity between the 161-kilovolt (kV) side and the 69-kV side in Western's Gila Substation near Yuma, constructing a new 18-mile transmission line between the Ligurta Substation and Arizona Public Service's North Gila Substation north of Yuma, and interconnecting this line at the North Gila Substation. The new Ligurta to North Gila transmission line would parallel the existing Wellton-Mohawk Canal for most of its length. In addition, Western would require that primary and secondary communication systems be installed to ensure reliable operation of the transmission system. Because the facility would be a major new source of generation and electricity generated by the Facility would be integrated into Western's transmission system, Western has determined that an EIS is required in accordance with DOE's NEPA Implementing Procedures, 10 CFR part 1021, Subpart D, Appendix D, class of action D6. The EIS will address the proposed action, a no-action alternative, and any action alternatives defined as a result of the EIS scoping process. Western will be the lead Federal Agency, as defined at 40 CFR 1501.5.

Portions of the transmission line upgrades and additions and a proposed natural gas pipeline for the Facility would cross lands managed by the U.S. Department of the Interior, Bureau of Land Management, Yuma Field Office (BLM). Since BLM would require rights-of-way grants for portions of the transmission line additions and new natural gas pipeline, BLM will participate as a cooperating agency in the preparation of the EIS.

The proposed Facility would be located on land currently owned by the U.S. Department of the Interior, Bureau of Reclamation (BOR). Title to this property would be transferred by BOR to Wellton-Mohawk. The EIS will address the proposed property transfer, and the BOR will participate in the EIS review of the project as a cooperating agency.

Western, in consultation with the cooperating agencies, will carefully examine public health and safety, environmental impacts, and engineering aspects of the proposed Facility, the proposed transmission system upgrades and facilities, and the proposed natural gas pipeline. Even though only portions of the proposed Facility and its components would be addressed by Western, the BLM, or the BOR decisions, the EIS will address all components of the proposed Facility.

The EIS will be prepared in accordance with the requirements of the Council on Environmental Quality's NEPA Implementing Regulations (40 CFR parts 1500-1508) and DOE's NEPA Implementing Procedures (10 CFR part 1021). Western will invite tribal, local, and State agencies with special expertise or jurisdiction over the Project to be cooperating agencies on the EIS. Full public participation, including information prepared in both English and Spanish, and disclosure are planned for the entire EIS process. It is anticipated that the EIS process will take about 1 year and will include public information and scoping meetings; consultation and involvement with appropriate Federal, State, local, and tribal government agencies; public review and hearings on the published draft EIS; a published final EIS; a review period; and publication of a record of decision (ROD). Publication of the ROD is anticipated in 2004.

The scoping meetings will be structured as open houses, and provide interested parties an opportunity to view Facility and EIS process exhibits, and provide comments to Western and cooperating agency representatives. The meetings will be held June 3 and 4, 2003, between 6 p.m. and 9 p.m. at the Wellton Elementary School Gymnasium and the Yuma Civic and Convention Center, respectively. The meeting locations are handicapped accessible, and an interpreter for the hearing-impaired will be available to provide information for the hearing impaired. The scoping period expires on June 30, 2003.

Dated: May 8, 2003.
Michael S. Hacskaylo,
Administrator.

[FR Doc. 03-12435 Filed 5-16-03; 8:45 am]

BILLING CODE 6450-01-P